DEPARTMENT OF THE INTERIOR

National Park Service

Notice of Public Meetings on Preliminary Alternatives for the Environmental Impact Statement for the Exit Glacier Area Plan, Kenai Fjords National Park, Alaska

AGENCY: National Park Service, Interior.

ACTION: Public meetings on preliminary alternatives for the Environmental Impact Statement for the Exit Glacier Area Plan, Kenai Fjords National Park, Alaska.

SUMMARY: A notice of intent to prepare an environmental impact statement (EIS) for the Exit Glacier Area Plan at Kenai Fjords National Park was published in Federal Register Volume 66, Number 145 on July 27, 2001. The formal scoping period for the plan/EIS closed March 31, 2002. Based on the scoping comments received, the National Park Service (NPS) has developed preliminary alternatives for the plan/EIS. The comment period for the preliminary alternatives will extend until July 1, 2002. The NPS will hold public meetings in Seward, Soldotna, and Anchorage, Alaska, to provide opportunities for dialogue about the preliminary alternatives. There will be short presentations to familiarize the public with the alternatives and then an opportunity to interact with members of the Exit Glacier planning team. The meeting schedule and locations are:

May 29—Seward, Kenai Fjords National Park Visitor Center, 1212 4th Avenue (at small boat harbor), Open House from noon to 8 p.m., Presentations at 1 p.m. and 6 p.m.

June 3—Soldotna, Kenai Peninsula Borough Building, 144 N. Binkley Street, Public Meeting from 6 p.m. to 8:30 p.m., Presentation at 6:30 p.m.

June 6—Anchorage, National Park Service, Alaska Regional Office, 2525 Gambell Street, 3rd floor conference room, Public Meeting from 6 p.m. to 8:30 p.m., Presentation at 6:30 p.m.

FOR FURTHER INFORMATION CONTACT: Eveline Martin, Interdisciplinary Team Leader, Kenai Fjords National Park, PO Box 1727, Seward, AK 99664. E-mail kefj_eg_plan@nps.gov. Telephone (907) 224-3175. Fax (907) 224-2144.

Dated: April 5, 2002.
Robert L. Arnberger,
Alaska NPS Regional Director.

[FR Doc. 02-11047 Filed 5-2-02; 8:45 am]

BILLING CODE 4310-70-P